DEPARTMENT OF COMMERCE

National Oceanic and Atmospheric Administration

[RTID 0648-XC406]

North Pacific Fishery Management Council; Public Meeting

AGENCY: National Marine Fisheries Service (NMFS), National Oceanic and Atmospheric Administration (NOAA), Commerce.

ACTION: Notice of a public meeting.

SUMMARY: The North Pacific Fishery Management Council's (NPFMC) Joint Protocol Committee will meet October 13, 2022.

DATES: The meeting will be held on Thursday, October 13, 2022, from 8:30 a.m. to 12 p.m., Alaska Time.

ADDRESSES:

Meeting address: The in-person component of the meeting will be held at the William A. Egan Civic & Convention Center, 555 W 5th Ave., Anchorage, AK 99501. Or watch online through the link at https://www.adfg.alaska.gov/index.cfm?adfg=fisheriesboard.meetinginfo&date=10-13-2022&meeting=anchorage.

Council address: North Pacific Fishery Management Council, 1007 W 3rd Ave., Anchorage, AK 99501-2252; telephone: (907) 271-2809.

Instructions for attending the meeting are given under SUPPLEMENTARY INFORMATION.

FOR FURTHER INFORMATION CONTACT: David Witherell, Council Executive Director; phone: (907) 271-2809 and email: david.witherell@noaa.gov. For technical support, please contact administrative Council staff, email: npfmc.admin@noaa.gov.

SUPPLEMENTARY INFORMATION:

Agenda

Thursday, October 13, 2022

The agenda will include staff reports on: (1) the status of Bristol Bay red king crab, Bering Sea snow crab, and Bering Sea tanner crab stocks, (2) updates on snow crab rebuilding, (3) federal Pacific cod stock assessment and management, (4) Council action on small boat access, (5) State Pacific cod management, and (6) State-managed Pacific cod proposals, along with public testimony and committee discussion on these items. The agenda is subject to change, and the latest version will be posted at https://www.adfg.alaska.gov/index.cfm?adfg=fisheriesboard.meetinginfo&date=10-13-2022&meeting=anchorage prior to the meeting, along with meeting materials.

Connection Information

You can watch the meeting online using a computer, tablet, or smart phone. Connection information will be posted online at: https://www.adfg.alaska.gov/index.cfm?adfg=fisheriesboard.meetinginfo&date=10-13-2022&meeting=anchorage.

Public Comment

Public comment letters will be accepted and should be submitted electronically to: https://arcg.is/1ze8ii by 11:59 p.m. Alaska time on Wednesday, October 5, 2022. An opportunity for oral public testimony will also be provided during the meeting.

Authority: 16 U.S.C. 1801 et seq.

Dated: September 20, 2022.
Rey Israel Marquez,
Acting Deputy Director, Office of Sustainable Fisheries, National Marine Fisheries Service.

[FR Doc. 2022-20675 Filed 9-22-22; 8:45 am]

BILLING CODE 3510-22-P